ENVIRONMENTAL PROTECTION AGENCY

[FRL-9133-3]

Proposed Settlement Agreement, Clean Air Act Citizen Suit

AGENCY: Environmental Protection Agency (EPA).

ACTION: Notice of proposed settlement agreement; Request for public comment.

SUMMARY: In accordance with section 113(g) of the Clean Air Act, as amended (“CAA” or “Act”), 42 U.S.C. 7413(g), notice is hereby given of a proposed settlement agreement, to address a consolidated petition for review filed by the New Jersey Department of Environmental Protection (“NJDEP”) in the United States Court of Appeals for the Third Circuit: NJDEP v. Johnson, Nos. 07-0612 and 08-4818 (3rd Cir.). On July 21, 2006, NJDEP filed an administrative petition seeking an objection to a permit proposed to be issued under title V of the Act, 42 U.S.C. 7661 et seq., to RRI Energy Mid-Atlantic's Portland Generating Station in Northampton County, Pennsylvania.¹ Following denial of the petition, on September 14, 2007, NJDEP filed a petition for review of that denial (No. 07-0612) and submitted an administrative petition for reconsideration of the denial. Following denial of the petition for reconsideration, NJDEP filed a petition for review of that denial (No. 08-4818) and the two petitions were consolidated into one action. On July 23, 2009, NJDEP filed an administrative petition asking the Administrator to reopen the title V permit for the RRI Energy Portland plant pursuant to 40 CFR 70.7(f)(iii) & (iv). Under the terms of the proposed settlement agreement, NJDEP has agreed to dismiss its pending consolidated petition for review, and EPA has agreed to respond to NJDEP's petition to reopen the permit within one year after the date when this Agreement becomes final.

¹ At the time of the petition, the name of the company was “Reliant Energy,” but the company subsequently changed its name. To avoid confusion this notice uses the company's current name.

DATES: Written comments on the proposed consent decree must be received by May 3, 2010.

ADDRESSES: Submit your comments, identified by Docket ID number EPA-HQ-OGC-2009-0987, online at http://www.regulations.gov (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room 3334, 1301 Constitution Ave., NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: David Orlin, Air and Radiation Law Office (2344A), Office of General Counsel, U.S. Environmental Protection Agency, 1200 Pennsylvania Ave., NW., Washington, DC 20460; telephone: (202) 564-1222; fax number (202) 564-5603; e-mail address: orlin.david@epa.gov.

SUPPLEMENTARY INFORMATION:

I. Additional Information About the Proposed Settlement Agreement

This settlement agreement would resolve pending challenges to EPA's denial of the title V petition and petition for reconsideration filed by NJDEP that seek an objection to a permit proposed to be issued by Pennsylvania Department of Environmental Protection to RRI Energy Mid-Atlantic Power Holdings LLC for its Portland Generating Station in Pennsylvania. Under the terms of the proposed settlement agreement, EPA shall make a determination on the petition to reopen the title V permit filed by NJDEP on July 23, 2009 no later than one year after the date when this Agreement becomes final. Within 10 days after this Agreement is finalized, NJDEP and EPA shall file a joint motion for voluntary dismissal with prejudice of the pending litigation.

For a period of thirty (30) days following the date of publication of this notice, the Agency will receive written comments relating to the proposed settlement agreement from persons who were not named as parties or intervenors to the litigation in question. EPA or the Department of Justice may withdraw or withhold consent to the proposed settlement agreement if the comments disclose facts or considerations that indicate that such consent is inappropriate, improper, inadequate, or inconsistent with the requirements of the Act. Unless EPA or the Department of Justice determines that consent to the settlement agreement should be withdrawn, the terms of the settlement will be affirmed.

II. Additional Information About Commenting on the Proposed Settlement Agreement

A. How Can I Get a Copy of the Settlement Agreement?

The official public docket for this action (identified by Docket ID No. EPA-HQ-OGC-2009-0987) contains a copy of the proposed settlement agreement. The official public docket is available for public viewing at the Office of Environmental Information (OEI) Docket in the EPA Docket Center, EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through http://www.regulations.gov. You may use the http://www.regulations.gov to submit or view public comments, access the index listing of the contents of the official public docket, and to access those documents in the public docket that are available electronically. Once in the system, key in the appropriate docket identification number then select “search”.

It is important to note that EPA's policy is that public comments, whether submitted electronically or in paper, will be made available for public viewing online at http://www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD-ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the http://www.regulations.gov website to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through http://www.regulations.gov, your e-mail address is automatically captured and included as part of the comment that is placed in the official public docket, and made available in EPA's electronic public docket.

Dated: March 25, 2010.
Richard B. Ossias,
Associate General Counsel.

[FR Doc. 2010-7318 Filed 3-31-10; 8:45 am]

BILLING CODE 6560-50-P